DEPARTMENT OF JUSTICE

Antitrust Division

Notice Pursuant to The National Cooperative Research and Production Act of 1993—Medical Technology Enterprise Consortium

Notice is hereby given that, on July 5, 2023, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, 2508 Biosciences LLC, Denver, CO; ALA Scientific Instruments, Farmingdale, NY; American Military Families Action Network, Tacoma, WA; American Technology Solutions International, Fredericksburg, VA; AMK Technologies of Ohio LLC, Mount Vernon, OH; Anchor Therapy Clinic, Sacramento, CA; Aphios Corp., Woburn, MA; Aruna Bio, Inc., Athens, GA; Asante Bio, Tampa, FL; Atorvia Health Technologies, Inc., Ottawa, Ontario, CAN; Axioforce, Inc., St. Louis, MO; BioAesthetics Corp., Durham, NC; Boundless Science LLC, Chapel Hill, NC; Brinter, Inc., Santa Monica, CA; California State University, Long Beach Research Foundation, Long Beach, CA; Compremium AG, Westlake Village, CA; Critical Path Institute, Tucson, AZ; CSP Technologies, Inc., Auburn, AL; CTD Group LLC, Vashon, WA; Dawson CMS, Fairfax, VA; Daxor Corp., Oak Ridge, TN; Design West Technologies, Inc., Tustin, CA; Diagnostic Biochips, Inc., Glen Burnie, MD; Edward Via College of Osteopathic Medicine, Blacksburg, VA; Equilibr.io, Inc., Palo Alto, CA; FireFlare Games LLC, Cheyenne, WY; fluidIQ, Inc., Ellijay, CA; FreeFlow Medical Devices LLC, Brevard, NC; Global Coalition for Adaptive Research, Larkspur, CA; Goldbelt Apex LLC, Herndon, VA; Hafion, Inc., Ann Arbor, MI; HealthTech Connex, Surrey, CAN; Hope 4 You Global LLC, Lowell, AR; ImmersiveTouch, Inc., Chicago, IL; Innerpulse Compression, Inc., Ft. Meyers, FL; Innovative Emergency Management, Inc., Morrisville, NC; International Consulting Associates, Inc., Arlington, VA; Jurata Thin Film, Inc., Chapel Hill, NC; K9s for Warriors, Ponte Vedra Beach, FL; Kendall Square Sciences, Cambridge, MA; Leveque Intellectual Property Law, P.C., Frederick, MD; Link to Learn dba Simwerx, Denver, CO; Locus Biosciences, Morrisville, NC; LSU Health Science Center at Shreveport, Shreveport, LA; MACH32, Inc., Edmonton, AB, CAN; Maravai Life Sciences, San Diego, CA; Mechano Therapeutics LLC, Philadelphia, PA; Memsel, Inc., Fort Worth, TX; My Buddies Place, Inc., Pasadena, CA; National Foundation for Integrative Medicine, Warrenton, VA; Neuraptive Therapeutics, Inc., Chesterbrook, PA; NeuroGeneces, Inc., Santa Fe, NM; New York University School of Medicine, New York, NY; Newrotex, Ltd., Oxford, GBR; NextStep Robotics, Inc., Baltimore, MD; nFlux, Inc., Palm Springs, CA; NovoPedics, Inc., Princeton, NJ; Operation Freedom Paws, San Martin, CA; Optum Public Sector Solutions, Inc., Falls Church, VA; Otter Cove Solutions LLC, Gaithersburg, MD; Paws for Purple Hearts, Penngrove, CA; Paxauris LLC, Phoenix, AZ; Pison Technology, Boston, MA; Plas-Free, Ltd., Nazareth, ISR; Problem Solutions LLC, Johnstown, PA; Quidel Corp., San Diego, CA; Rapid Prototyping & Manufacturing Technologies LLC, Forest Hill, MD; RayBalance, Inc., San Diego, CA; Recornea SRL, Martignacco, ITA; Regents of the University of Minnesota, Minneapolis, MN; Resilient Lifescience, Inc., Pittsburgh, PA; Reveille Group, Tampa, FL; RSM US LLP, Chicago, IL; SafeBeat Rx, Inc., Chico, CA; SafeBVM Corp., Boston, MA; Safi Biotherapeutics, Inc., Cambridge, MA; Saint Louis University, St. Louis, MO; Shee Atiká Enterprises, Huntsville, AL; Smith & Nephew, Inc., Cordova, TN; SpineThera, Inc., Plymouth, MN; Summa Bio Solutions, Inc., Fort Worth, TX; Surgicure Technologies, Inc., Charlestown, MA; Tanner Research, Inc., Duarte, CA; Texas Research & Technology Foundation, San Antonio, TX; The McConnell Group, Landover, MD; The Ohio State University, Columbus, OH; The Research and Recognition Project, Inc., Corning, NY; Transom Scopes, Inc. dba Instrument Technology, Inc., Westfield, MA; TreMonti Consulting LLC, Reston, VA; UES, Inc., Dayton, OH; Virginia Biotechnology Association, Richmond, VA; Virginia Polytechnic Institute and State University, Blacksburg, VA; Webworld Technologies, Inc. dba WTI, Fairfax, VA; ZeSa LLC, Eden Prarie, MN; and Zylo Therapeutics, Inc., Greenville, SC have been added as parties to this venture.

Also, 4M Biotech, Ltd., Victoria, CANADA; 8i East, Inc., Hermosa Beach, CA; Acenxion Biosystems, Inc., Kansas City, KS; Advanced Biomimetic Sensors, Inc., Bethesda, MD; Anthem Engineering LLC, Elkridge, MD; ApnoMed, Inc., Bellevue, WA; Applied Brain Research, Inc., Waterloo, Ontario, CAN; Aptitude Medical Systems, Santa Barbara, CA; ArchieMD, Inc., Boca Raton, FL; Asayena, La Jolla, CA; Aspen Medical USA, San Antonio, TX; Aspen Stem Cell Institute LLC, Basalt, CO; Aspisafe Solutions, Inc., Brooklyn, NY; Assursec LLC, Leesburg, VA; Atlantic Diving Supply, Inc. dba ADS, Inc., Virginia Beach, VA; Atmospheric Plasma Solutions, Cary, NC; Bennett Federal LLC, Plymouth, MN; Bio Med Sciences, Inc., Allentown, PA; Blue Horizon Development LLC dba Precise Portions LLC, Norfolk, VA; Cambridge Research & Development, Inc., Nashua, NH; Career Haven LLC, Largo, MD; Cibao Cloud Technologies, Inc., Portsmouth, RI; Cleveland Clinic Foundation, Cleveland, OH; Collaborative Effort, Inc. dba RAIN Incubator, Tacoma, WA; Cornell University, Ithaca, NY; Curia Global, Inc., Albany, NY; Curza Global LLC, Salt Lake City, UT; DeltaStrac LLC, New Windsor, MD; DxLab, Inc., Somerville, MA; ECM Therapeutics, Inc., Warrendale, PA; electroCore, Inc., Rockaway, NJ; Elite Performance & Learning Center, PS, Seattle, WA Enalare Therapeutics, Inc., Princeton, NJ; Excera, Inc., Minneapolis, MN; Fed Grow LLC dba FedNetix, Issaquah, WA; Felix Biotechnology, Inc., South San Francisco, CA; First Nation Group LLC, Niceville, FL; Georgia Tech Research Corp., Atlanta, GA; Gothams LLC, Austin, TX; Hememics Biotechnologies, Inc., Gaithersburg, MD; Hewlett Packard Enterprise, Reston, VA; Hough Ear Institute, Oklahoma City, OK; Icarus Medical LLC, Charlottesville, VA; Ichor Sciences LLC, Nashville, TN; INdev LLC, Austin, TX; Inovio, Plymouth Meeting, PA; Jaw Joint Science Institute, Philadelphia, PA; Kowa, Inc., Houston, TX; Legacy US, Inc., Boise, ID; Life Elixir LLC, Irvine, CA; Linshom Medical, Inc., Ellicott City, MD; Louisiana State University System dba Pennington Biomedical Research Center, Baton Rouge, LA; Malum, Inc., Coralville, IA; Microsoft, Redmon, VA; Nanohmics, Inc., Austin, TX; National Association of Veterans' Research and Education Foundations, Washington, DC; Neunos ZRt, Szeged, HUN; Neuro11 Technologies, Inc., Cambridge, MA; Neuronoff, Inc., Valencia, CA; Neursantys, Inc., Chicago, IL; NoMo Diagnostics, Chicago, IL; Noninvasix, Inc., Houston, TX; North Carolina State University, Raleigh, NC; ODSS Holdings, Greenville, SC; ORSA Technologies LLC, Scottsdale, AZ; Orthopedic Wellness Laboratories, Woodinville, WA; PERSOWN, Inc., Jacksonville, FL; Plymouth Rock Technologies, Inc., Plymouth, MA; Pneumeric, Inc., Rochester, MN; Powerbuilding Holdings Corp., Staten Island, NY; PuraLab LLC, Wilsonville, OR; Qidni Labs, Inc., Buffalo, NY; Quantum Ventura, Inc., San Jose, CA; Riverside Research, Arlington, VA; Rockley Photonics, Pasadena, CA; Rubix LS, Lawrence, MA; Sentien Biotechnologies, Lexington, MA; Shock Therapeutics Biotechnologies, Inc., Baltimore, MD; SiDx, Inc., Seattle, WA; Sierra Nevada Corp., Sparks, NV; Singularity Scitech LLC, Bronxville, NY; SmartHealth Catalyzer, Inc., Riverwoods, IL; Soar Technology, Inc., Ann Arbour, MI; Social Science Innovations Corp., New York, NY; Sonix Medical Devices, Inc., Braselton, GA; Strive Tech, Inc., Bothell, WA; SyncThink, Inc., Palo Alto, CA; Tasso, Inc., Seattle, WA; TechWerks LLC, Arlington Heights, IL; TensionSquare LLC, Port Charlotte, FL; Terida LLC, Pinehurst, NC; TetraCells, Inc., Marietta, GA; Thomas Jefferson University, Philadelphia, PA; Thought Leadership and Innovation Foundation, McLean, VA; TourniTek, Seattle, WA; Trauma Insight LLC, San Antonio, TX; TroutHouseTech LLC, Arlington, VA; Tygrus LLC, Troy, MI; University of Central Florida Research Foundation, Inc., Orlando, FL; University of Oregon, Eugene, OR; University of Tennessee Health Science Center, Memphis, TN; UTL, Inc., Carlsbad, CA; Vir Biotechnology, San Francisco, CA; Vizbii Technologies, Inc., Charleston, SC; Voltron Therapeutics, New York, NY; War Horses for Veterans, Inc., Stilwell, KS; and ZuluCare LLC, Bethpage, NY have withdrawn as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on April 5, 2023. A notice was published in the Federal Register pursuant to section 6(b) of the Act on June 12, 2023 (88 FR 38095).

Suzanne Morris,
Deputy Director Civil Enforcement Operations, Antitrust Division.

[FR Doc. 2023-18094 Filed 8-22-23; 8:45 am]

BILLING CODE P